DEPARTMENT OF COMMERCE

National Oceanic and Atmospheric Administration

[I.D. 080306B]

Endangered Species; File No. 1572

AGENCY: National Marine Fisheries Service (NMFS), National Oceanic and Atmospheric Administration (NOAA), Commerce.

ACTION: Notice; issuance of permit.

SUMMARY: Notice is hereby given that Amanda Southwood, Department of Biology and Marine Biology, University of North Carolina at Wilmington, 601 S. College Road, Wilmington, North Carolina 28403 has been issued a permit to take loggerhead (Caretta caretta), green (Chelonia mydas), and Kemp's ridley (Lepidochelys kempii) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Patrick Opay or Kate Swails, (301)713-2289.

SUPPLEMENTARY INFORMATION: On April 12, 2006, notice was published in the Federal Register (71 FR 18726) that a request for a scientific research permit to take loggerhead, green, and Kemp's ridley sea turtles had been submitted by the above-named individual. The requested permit has been issued under the authority of the Endangered Species Act of 1973, as amended (ESA; 16 U.S.C. 1531 et seq.) and the regulations governing the taking, importing, and exporting of endangered and threatened species (50 CFR parts 222-226).

The purpose of the research is to assess the physiological response of loggerhead, green, and Kemp's ridley sea turtles to entanglement in fishing gear, identify post-release mortality events, and integrate these data to assess the feasibility of using biochemical indices as predictors of post-release mortality. The research will also provide information on the movements of sea turtles utilizing the lower Cape Fear River, North Carolina. Researchers would annually capture up to 15 loggerhead, 25 green, and 5 Kemp's ridley sea turtles for a 3-year period using gillnets. Animals would be measured, weighed, blood sampled, passive integrated transponder tagged, satellite transmitter tagged, VHF tagged and tracked, have their cloacal body temperature taken, and be released. The level of post-release mortality of turtles that are part of the physiological stress portion of the research may be high and reach up to 30 percent (9 animals per year or 27 over the course of the permit, all species combined). The principal investigator believes that current fishery mortality estimates are too high; therefore the study is being permitted for one year to gain a better understanding of actual mortality levels. Research after year one is contingent on the results of the first year and will only be authorized if NMFS determines further research is warranted and can be justified.

Issuance of this permit, as required by the ESA, was based on a finding that such permit (1) was applied for in good faith, (2) will not operate to the disadvantage of any endangered or threatened species, and (3) is consistent with the purposes and policies set forth in section 2 of the ESA.

Dated: August 14, 2006.
P. Michael Payne,
Chief, Permits, Conservation and Education Division, Office of Protected Resources, National Marine Fisheries Service.

[FR Doc. E6-13692 Filed 8-17-06; 8:45 am]

BILLING CODE 3510-22-S